DEPARTMENT OF ENERGY

Federal Energy Regulatory Commission

[Docket No. EL00-95-001, et al.]

San Diego Gas and Electric Company, et al.; Electric Rate and Corporate Regulation Filings

May 3, 2002.

The following filings have been made with the Commission. The filings are listed in ascending order within each docket classification.

1. San Diego Gas and Electric Company, Complainant, v. Sellers of Energy and Ancillary Services Into Markets Operated by the California Independent System Operator and the California Power Exchange, Respondents California Independent System Operator Corporation

[Docket No. EL00-95-001 and ER02-1656-000]

Take notice that on May 1, 2002, the California Independent System Operator Corporation (ISO) tendered for filing in the above-captioned dockets its proposals for a Comprehensive Market Redesign. The ISO requests that certain elements of the filing be made effective on July 1, 2002 and others on October 1, 2002.

The ISO states that this filing has been served on the California Public Utilities Commission, all California ISO Scheduling Coordinators, and all parties in Docket No. EL00-95. Comment Date: May 22, 2002.

2. Florida Power & Light Company

[Docket No. ER02-139-003]

Take notice that on April 26, 2002, and Florida Power & Light Company (FPL) filed, pursuant to the order issued on March 27, 2002 in the above-captioned proceeding, a compliance filing making the required changes to the executed Interconnection and Operation Agreement between FPL and CPV Atlantic, Ltd. On May 1, 2002, three pages have been included that were omitted on April 26, 2002 filing. Comment Date: May 17, 2002.

3. Armstrong Energy Limited Partnership, LLLP, Pleasants Energy, LLC, and Troy Energy, LLC

[Docket Nos. ER02-300-004, ER02-301-004, ER02-835-002, ER02-837-002]

Take notice that on April 25, 2002, Armstrong Energy Limited Partnership, LLLP (Armstrong), Pleasants Energy, LLC (Pleasants) and Troy Energy, LLC (Troy), tendered for filing with the Federal Energy Regulatory Commission (Commission) revised pages in Armstrong and Troy's revised power purchase agreements for test power sales (Revised Test Power PPAs) and revised pages in Armstrong, Pleasants and Troy's power purchase agreements for the sale of commercial power to Dominion Virginia Power (Revised Commercial Power PPAs) that comply with the Commission's April 10, 2002 Order in the above listed proceedings.

Copies of the filing were served upon Ohio Public Utilities Commission, the Pennsylvania Public Service commission, the North Carolina Utilities Commission, Virginia State Corporation Commission and the Public Service Commission of West Virginia.

Comment Date: May 16, 2002.

4. Boston Edison Company

[Docket No. ER02-843-001]

Take notice that on April 25, 2002, Boston Edison Company (Boston Edison) tendered for filing an amendment to the executed Related Facilities Agreement between Boston Edison and Mirant Kendall, LLC (Mirant Kendall) originally filed on January 25, 2002 in this proceeding .

Comment Date: May 16, 2002.

5. Duke Energy Corporation

[Docket No. ER02-994-002]

Take notice that on April 26, 2002, Duke Energy Corporation (Duke) on behalf of Duke Electric Transmission, tendered for filing with the Federal Energy Regulatory Commission (Commission) revised rate schedule sheets reflecting changes to Exhibit D to the Restated Interchange Agreement (Restated IA) dated February 10, 1992 between Duke and South Carolina Public Service Authority. The revised rate schedule sheets supersede the sheets of Exhibit D filed on February 8, 2002 and revisions filed on March 15, 2002. In addition, Duke tendered for filing a revised rate schedule sheet to the Restated IA incorporating Supplement No. 4, which was filed with the Commission on December 20, 1996 in Docket No. OA97-205-000 and accepted for filing in a letter order dated February 17, 1999. Duke seeks an effective date for the revised rate schedule sheets of Exhibit D to the Restated IA of April 10, 2002.

Comment Date: May 17, 2002.

6. Phelps Dodge Energy Services, LLC

[Docket No. ER02-1026-001]

Take notice that on April 26, 2002, Phelps Dodge Energy Services, LLC (PDES) tendered for filing with the Federal Energy Regulatory Commission (the Commission) a revised FERC Electric Tariff, First Revised Volume No. 1, in compliance with the Commission's letter order dated April 15, 2002.

Comment Date: May 17, 2002.

7. ISO New England Inc.

[Docket No. ER02-1392-001]

Take notice that on April 26, 2002, the New England Power Pool (NEPOOL), filed a Report of Compliance, which contains changes to NEPOOL Market Rule and Procedure No. 5, in order to effect compliance with the Federal Energy Regulatory Commission's (Commission) April 12, 2002 letter Order in Docket No. ER02-1392-000.

NEPOOL states that copies of these materials were sent to the New England state governors and regulatory commissions and NEPOOL Participants Committee members and alternates and Non Participant Transmission Customers.

Comment Date: May 17, 2002.

8. Florida Power Corporation

[Docket No. ER02-1655-000]

Take notice that on April 30, 2002, Florida Power Corporation tendered for filing cost support updates for its interchange service agreements pursuant to Part 35 of the Federal Energy Regulatory Commission's (Commission) regulations. In addition to the cost support, the service agreements have been restated as required by the Commission's Order No. 614. The filing also cancels rate schedules associated with 11 terminated interchange service agreements, and updates the Real Power Loss Factors in the Open Access Transmission Tariffs of Florida Power and Carolina Power and Light Company.

Copies of the filing letter and cost support (which identifies the updated charges) have been served on the counter-parties to the interchange service agreements and the interested state utility commissions.

Comment Date: May 21, 2002.

9. New York Independent System Operator, Inc.

[Docket No. ER01-2967-005]

Take notice that on April 26, 2002, the New York System Operator, Inc. (NYISO) filed revisions to Attachment S of its Open Access Transmission Tariff, which contains rules to allocate responsibility for the cost of new interconnection facilities, pursuant to the Federal Energy Regulatory Commission's (Commission) Order issued on October 26, 2001, in the above-captioned proceeding. The NYISO has requested an effective date of September 26, 2001, for the compliance filing, the effective date granted in the Commission's Order issued on October 26, 2001, in the above-captioned proceeding.

The NYISO has mailed a copy of this compliance filing to all persons that have filed interconnection applications or executed Service Agreements under the NYISO Open Access Transmission Tariff, to the New York State Public Service Commission, and to the electric utility regulatory agencies in New Jersey and Pennsylvania. The NYISO has also mailed a copy to each person designated on the official service list maintained by the Commission for the above-captioned proceeding.

Comment Date: May 17, 2002.

10. Southern Indiana Gas and Electric Company

[Docket No. ES02-31-000]

Take notice that on April 29, 2002, Southern Indiana Gas and Electric Company submitted an application pursuant to section 204 of the Federal Power Act seeking authorization to issue, from time to time during the period ending June 22, 2004, short-term debt with no more than $250 million outstanding at any one time.

Comment Date: May 24, 2002.

11. Ameren Energy Generating Company

[Docket No. ES02-32-000]

Take notice that on April 29, 2002, Ameren Energy Generating Company submitted an application pursuant to section 204 of the Federal Power Act seeking authorization to issue, from time to time during the period from June 23, 2002, through June 22, 2004, (1) up to $500 million of long-term debt, and (2) short-term debt with the total aggregate amount of all short-term debt outstanding at any one time not to exceed $300 million.

Comment Date: May 24, 2002.

Standard Paragraph

E. Any person desiring to intervene or to protest this filing should file with the Federal Energy Regulatory Commission, 888 First Street, NE, Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-11701 Filed 5-9-02; 8:45 am]

BILLING CODE 6717-01-P